DEPARTMENT OF ENERGY

Federal Energy Regulatory Commission

Combined Notice of Filings

Take notice that the Commission has received the following Natural Gas & Oil Pipeline Rate and Refund Report filings:

Filings Instituting Proceedings

Docket Numbers: RP23-760-000.

Applicants: Northern Border Pipeline Company.

Description: § 4(d) Rate Filing: Electric Compressor Surcharge Clarification to be effective 5/1/2023.

Filed Date: 5/3/23.

Accession Number: 20230503-5095.

Comment Date: 5 p.m. ET 5/15/23.

Docket Numbers: RP23-761-000.

Applicants: Fundare Resources Operating Company, LLC, Moonrise Midstream, LLC.

Description: Joint Petition for Temporary Waiver of Capacity Release Regulations, et al. of Fundare Resources Operating Company, LLC, et al.

Filed Date: 5/3/23.

Accession Number: 20230503-5126.

Comment Date: 5 p.m. ET 5/15/23.

Docket Numbers: RP23-762-000.

Applicants: Discovery Gas Transmission LLC.

Description: § 4(d) Rate Filing: Tariff Updates to be effective 6/5/2023.

Filed Date: 5/4/23.

Accession Number: 20230504-5046.

Comment Date: 5 p.m. ET 5/16/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2023.
Debbie-Anne A. Reese,
Deputy Secretary.

[FR Doc. 2023-09955 Filed 5-9-23; 8:45 am]

BILLING CODE 6717-01-P